NATIONAL SCIENCE FOUNDATION

Advisory Committee for Geosciences; Notice of Meeting

In accordance with the Federal Advisory Committee Act (Pub. L. 92-463, as amended), the National Science Foundation (NSF) announces the following meeting:

Name and Committee Code: Advisory Committee for Geosciences (1755).

Date and Time:

October 17, 2019; 8:30 a.m.-5:00 p.m. EDT

October 18, 2019; 8:30 a.m.-2:00 p.m. EDT

Place: National Science Foundation, 2415 Eisenhower Avenue, Room 2030, Alexandria, Virginia 22314.

Type of Meeting: Open.

Contact Person: Melissa Lane, National Science Foundation, Room C 8000, 2415 Eisenhower Avenue, Alexandria, Virginia 22314. Phone 703-292-8500.

Minutes: May be obtained from the contact person listed above.

Purpose of Meeting: To provide advice, recommendations, and oversight on support for geoscience research and education including atmospheric, geo-space, earth, ocean and polar sciences.

Agenda

October 17, 2019

Directorate and NSF activities and plans

Budget Updates

Committee Discussion on Follow-On Report to Dynamic Earth

Meeting with the NSF Chief Operating Officer

October 18, 2019

Division Meetings

COV Reports

Summary of AC OPP Spring Meeting and Upcoming Fall Meeting

Action Items/Planning for Spring 2020 Meeting

Dated: August 8, 2019.
Crystal Robinson,
Committee Management Officer.

[FR Doc. 2019-17380 Filed 8-13-19; 8:45 am]

BILLING CODE 7555-01-P